DEPARTMENT OF LABOR

Employment and Training Administration

[NAFTA-05319, and NAFTA-05319A]

Motorola, Inc., Personal Communications Sector, Wireless Messaging Division, Including Leased Workers of Adecco Employment, Boynton Beach, FL and Motorola, Inc., Personal Communications Sector, Wireless Messaging Division, Buda, TX; Amended Certification Regarding Eligibility To Apply for NAFTA-Transitional Adjustment Assistance

In accordance with Section 250(a), Subchapter D, Chapter 2, Title II, of the Trade Act of 1974, as amended (19 U.S.C. 2273), the Department of Labor issued a Certification of Eligibility to Apply for NAFTA Transitional Adjustment Assistance on February 11, 2002, applicable to workers of Motorola, Inc., Personal Communications Sector, Wireless Messaging Division, Boynton Beach, Florida. The notice was published in the Federal Register on February 28, 2002 (67 FR 9328). The certification was amended on April 9, 2002 to include leased workers of Adecco Employment employed at Motorola, Inc., Personal Communication Sector, Wireless Messaging Division, Boynton Beach, Florida. The notice was published in the Federal Register on April 24, 2002 (67 FR 20173).

At the request of the State agency, the Department reviewed the certification for workers of the subject firm. Information provided by the State shows that a worker separation occurred involving an employee whose wages were paid by Motorola, Inc., Personal Communications Sector, Wireless Messaging Div., Boynton Beach, Florida, but worked in Buda, Texas. This employee was engaged in employment related to the production of electronic paging and cellular products at the Boynton Beach, Florida location of the subject firm.

Based on these findings, the Department is amending the certification to include an employee of Motorola, Inc., Personal Communications Sector, Wireless Messaging Division, Buda, Texas.

The intent of the Department's certification is to include all workers of Motorola, Inc., Personal Communications Sector, Wireless Messaging affected by employment declines and a shift in the production of electronic paging and cellular products to Mexico.

The amended notice applicable to NAFTA-05319 is hereby issued as follows:

All workers of Motorola, Inc., Personal Communications Sector, Wireless Messaging Division, Boynton Beach, Florida including leased workers of Adecco Employment, Boca Raton, Florida (NAFTA-5319), and including a worker of Motorola, Inc., Personal Communications Sector, Wireless Messaging Division, Buda, Texas (NAFTA-5319A), engaged in employment related to the production of electronic paging and cellular products at Motorola, Inc., Personal Communications Sector, Wireless Messaging Division, Boynton Beach, Florida who became totally or partially separated from employment on or after September 13, 2000, through February 11, 2004, are eligible to apply for NAFTA-TAA under Section 250 of the Trade Act of 1974.

Signed in Washington, DC this 25th day of July, 2002.
Edward A. Tomchick,
Director, Division of Trade Adjustment Assistance.

[FR Doc. 02-19958 Filed 8-6-02; 8:45 am]

BILLING CODE 4510-30-P